DEPARTMENT OF COMMERCE

Bureau of Industry and Security

15 CFR Part 774

[Docket No. 060228055-6055-01]

RIN 0694-AD62

Implementation of Unilateral Chemical/Biological (CB) Controls on Certain Biological Agents and Toxins; Clarification of Controls on Medical Products Containing Certain Toxins on the Australia Group (AG) Common Control Lists; Additions to the List of States Parties to the Chemical Weapons Convention (CWC)

Correction

In rule document E6-8995 beginning on page 33614 in the issue of Monday, June 12, 2006, make the following correction:

Supplement No. 1 to Part 774 [Corrected]

On page 33621, in Supplement No. 1 to Part 774, the table is corrected in part to read as follows:

Control(s) | Country chart
* * * * * * *
NS applies to “technology” for items controlled by 1A004 | NS Column 2.
MT applies to “technology” for items controlled by 1A101, 1B001, 1B101, 1B102, 1B115 to 1B119, 1C001, 1C007, 1C011, 1C101, 1C102, 1C107, 1C111, 1C116, 1C117, or 1C118 for MT reasons | MT Column 1.
* * * * * * *

[FR Doc. Z6-8995 Filed 6-21-06; 8:45 am]

BILLING CODE 1505-01-D